DEPARTMENT OF THE INTERIOR

Bureau of Land Management

[UT-060-1430-ET; UTU 42993, UTU 42952, UTU 79436]

Public Land Order No. 7594; Partial Revocation of Executive Order Dated July 2, 1910, and Secretarial Order Dated April 10, 1946; Utah

AGENCY: Bureau of Land Management, Interior.

ACTION: Public land order.

SUMMARY: This order partially revokes an Executive Order insofar as it affects 40 acres of public lands withdrawn for the Bureau of Land Management's Power Site Reserve No. 119 and a Secretarial Order insofar as it affects 120 acres of public lands withdrawn for the Bureau of Land Management's Power Site Classification No. 377. This order opens the lands to surface entry subject to valid existing rights and other segregations of record.

EFFECTIVE DATE: February 27, 2004.

FOR FURTHER INFORMATION CONTACT: Mary von Koch, BLM Moab Field Office, 82 East Dogwood Avenue, Moab, Utah 84532, 435-259-2128.

SUPPLEMENTARY INFORMATION: The lands are open to mining under the provisions of the Mining Claims Rights Restoration Act, 30 U.S.C. 621 (2000). Since this act applies only to lands withdrawn for power purposes, the provisions of the act are no longer applicable to the lands included in this revocation order. The State of Utah has waived its right of selection in accordance with the provisions of Section 24 of the Federal Power Act, 16 U.S.C. 818 (2000).

Order

By virtue of the authority vested in the Secretary of the Interior by Section 204 of the Federal Land Policy and Management Act of 1976, 43 U.S.C. 1714 (2000), it is ordered as follows:

1. The Executive Order dated July 2, 1910, which established Bureau of Land Management's Power Site Reserve No. 119, is hereby revoked insofar as it affects the following described lands:

Salt Lake Meridian

T. 21 S., R. 24 E.,

sec. 35, NW¼NW¼.

The area described contains 40 acres in Grand County.

2. The Secretarial Order dated April 10, 1946, which established Bureau of Land Management's Power Site Classification No. 377, is hereby revoked insofar as it affects the following described lands:

Salt Lake Meridian

T. 21 S., R.24 E.,

sec. 27, W½SE¼;

sec. 34, NE¼NE¼.

The area described contains 120 acres in Grand County.

3. At 10 a.m. on February 27, 2004, the lands will be opened to the operation of the public land laws generally, subject to valid existing rights, the provisions of existing withdrawals, other segregations of record, and the requirements of applicable law. All valid applications received at or prior to 10 a.m. February 27, 2004, shall be considered as simultaneously filed at that time. Those received thereafter shall be considered in the order of filing.

Dated: December 11, 2003.
Rebecca W. Watson,
Assistant Secretary—Land and Minerals Management.

[FR Doc. 04-1796 Filed 1-27-04; 8:45 am]

BILLING CODE 4310-$$-P